DEPARTMENT OF COMMERCE

International Trade Administration

Environmental Technologies Trade Advisory Committee (ETTAC) Public Meeting

AGENCY: International Trade Administration, DOC.

ACTION: Notice of Federal Advisory Committee Meeting.

SUMMARY: This notice sets forth the schedule and proposed agenda of a meeting of the Environmental Technologies Trade Advisory Committee (ETTAC).

DATES: The meeting is scheduled for Tuesday, January 10, 2017 from 9:00 a.m.-5:00 p.m. and Wednesday, January 11, 2017 from 9:00 a.m.-2:00 p.m. Eastern Standard Time (EST).

ADDRESSES: The meeting will be held in the Auditorium at the U.S. Department of Commerce, Herbert Clark Hoover Building, 1401 Constitution Avenue NW., Washington, DC 20230.

FOR FURTHER INFORMATION CONTACT: Ms. Amy Kreps, Office of Energy & Environmental Industries (OEEI), International Trade Administration, Room 28018, 1401 Constitution Avenue NW., Washington, DC 20230 (Phone: 202-482-3835; Fax: 202-482-5665; email: amy.kreps@trade.gov.) This meeting is physically accessible to people with disabilities. Requests for sign language interpretation or other auxiliary aids should be directed to OEEI at (202) 482-5225 no less than one week prior to the meeting.

SUPPLEMENTARY INFORMATION: The two-day meeting will take place on January 10 from 9:00 a.m. to 5:00 p.m. and on January 11 from 9:00 a.m. to 2:00 p.m. Eastern Standard Time (EST). The general meeting is open to the public and time will be permitted for public comment on January 11 from 1:30-2:00 p.m. EST. Those interested in attending must provide notification by Thursday, December 29, 2016 at 5:00 p.m. EST, via the contact information provided above. Written comments concerning ETTAC affairs are welcome any time before or after the meeting. Minutes will be available within 30 days of this meeting.

Topic to be considered: The agenda for the January 10 & 11, 2017 meeting includes providing the newly chartered committee with introductions to the U.S. interagency Environmental Technology Working Group (ETWG). The committee also will discuss its priorities and objectives and deliberate on committee and subcommittee leadership as well as subcommittee topics.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was originally chartered in May of 1994. It was most recently re-chartered until August 2018.

FOR FURTHER INFORMATION CONTACT: Ms. Amy Kreps, Office of Energy & Environmental Industries (OEEI), International Trade Administration, Room 4053, 1401 Constitution Avenue NW., Washington, DC 20230. (Phone: 202-482-3835; Fax: 202-482-5665; email: amy.kreps@trade.gov).

Dated: December 8, 2016.
Edward A. O'Malley,
Director, Office of Energy and Environmental Industries.

[FR Doc. 2016-29947 Filed 12-13-16; 8:45 am]

BILLING CODE 3510-DR-P